FEDERAL COMMUNICATIONS COMMISSION

47 CFR Part 2

Frequency Allocations and Radio Treaty Matters; General Rules and Regulations

CFR Correction

In Title 47 of the Code of Federal Regulations, Parts 0 to 19, revised as of October 1, 2013, on page 645, in § 2.925, the example following paragraph (a)(1) is removed.

[FR Doc. 2014-12308 Filed 5-23-14; 8:45 am]

BILLING CODE 1505-01-D